FEDERAL RESERVE SYSTEM

Formations of, Acquisitions by, and Mergers of Bank Holding Companies; Correction

This notice corrects a notice (FR Doc. E7-4980) published on pages 12800-12801 of the issue for Monday, March 19, 2007.

Under the Federal Reserve Bank of New York heading, the entry for The Bank of New York Mellon Corporation, New York, New York, is revised to read as follows:

A. Federal Reserve Bank of New York (Anne McEwen, Financial Specialist) 33 Liberty Street, New York, New York 10045-0001:

1. The Bank of New York Mellon Corporation, New York, New York; to become a bank holding company by acquiring and merging with The Bank of New York Company, Inc., New York, New York, and thereby indirectly acquire The Bank of New York, New York, New York; B.N.Y. Holdings (Delaware) Corporation, Newark, Delaware; The Bank of New York (Delaware), Newark, Delaware; Mellon Financial Corporation, Pittsburgh, Pennsylvania; Mellon Bank, N.A., Pittsburgh, Pennsylvania; Mellon United National Bank, Miami, Florida; Mellon 1st Business Bank, National Association, Los Angeles, California; and Mellon Trust of New England, N.A., Boston, Massachusetts. In connection with this proposal, The Bank of New York Company, Inc., and Mellon Financial Corporation have also requested approval to hold and exercise options to purchase up to 19.9 percent of each other's common shares.

Comments on this application must be received by April 13, 2007.

Board of Governors of the Federal Reserve System, March 30, 2007.
Robert deV. Frierson,
Deputy Secretary of the Board.

[FR Doc. E7-6334 Filed 4-4-07; 8:45 am]

BILLING CODE 6210-01-S